DEPARTMENT OF DEFENSE

Office of the Secretary

[Transmittal No. 19-0M]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0M with attached Policy Justification and Sensitivity of Technology.

Dated: December 18, 2019.
Aaron T. Siegel,
Alternate OSD Federal Register Liaison Officer, Department of Defense.

Transmittal No. 19-0M

REPORT OF ENHANCEMENT OR UPGRADE OF SENSITIVITY OF TECHNOLOGY OR CAPABILITY (SEC. 36(B)(5)(C), AECA)

(i) Prospective Purchaser: Government of Norway

(ii) Sec. 36(b)(1), AECA Transmittal No.: 16-57

Date: December 20, 2016

Military Department: U.S. Navy

(iii) Description: On December 20, 2016, Congress was notified by Congressional certification transmittal number 16-57 of the possible sale, under Section 36(b)(1) of the Arms Export Control Act, of five (5) P-8A Patrol Aircraft, each included: Commercial Engines, Tactical Open Mission Software (TOMS), Electro-Optical (EO) and Infrared (IO) MX-20HD, AN/AAQ-2(V)1 Acoustic System, AN/APY-10 Radar, ALQ-240 Electronic Support Measures, forty (40) AIM-120C-7 Advanced Medium Range Air-to-Air Missiles (AMRAAM) and one (1) spare AIM-120C-7 AMRAAM Guidance Section. Also included were eleven (11) Multifunctional Distribution System Joint Tactical Radio Systems (MIDS JTRS); eight (8) Guardian Laser Transmitter Assemblies (GLTA) for the AN/AAQ-24(V)N; eight (8) System Processors for AN/AAQ-24(V)N; forty-two (42) AN/AAR-54 Missile Warning Sensors for the AN/AAQ-24(V)N; fourteen (14) LN-251 with Embedded Global Positioning Systems (GPS)/Inertial Navigation Systems (EGIs); and two thousand (2,000) AN/SSQ-125 Multi-Static Active Coherent (MAC) Source Sonobouys; spares; spare engine; support equipment; operational support systems; training; maintenance trainer/classrooms; publications; software; engineering and logistics technical assistance; Foreign Liaison Officer support; contractor engineering technical services; repair and return; transportation; aircraft ferry; and other associated training and support. The total estimated program cost is $1.75 billion. Major Defense Equipment * (MDE) constituted $1.4 billion of this total.

This transmittal reports one (1) additional P-8 aircraft with commercial engines, Tactical Open Mission Software (TOMS), Electro-Optical (EO) and Infrared (IO) MX-20HD, AN/AAQ-2(V)1 Acoustic System, AN/APY-10 Radar, ALQ-240 Electronic Support Measures, once (1) Multifunctional Distribution System Joint Tactical Radio Systems (MIDS JTRS), one (1) Guardian Laser Transmitter Assemblies (GLTA) for the AN/AAQ-24(V)N; one (1) System Processors for AN/AAQ-24(V)N; and two (2) LN-251 with Embedded Global Positioning Systems (GPS)/Inertial Navigation Systems (EGIs), and associated materiel, support, and services. These additional MDE items will result in an increase in MDE cost of $100 million, for a total MDE value of $1.5 billion. Total case value will increase to $1.85 billion.

(iv) Significance: Acquisition of an additional P-8A aircraft will increase Norwegian Maritime Patrol Aircraft (MPA) capability. This sale will strengthen collective NATO defense and further enhance Norway's regional and global allied contributions.

(v) Justification: This proposed sale supports the foreign policy and national security objectives of the United States by helping improve the security of a NATO ally that has been, and continues to be, an important force for political stability throughout the world.

(vi) Sensitivity of Technology: The Sensitivity of Technology Statement contained in the original notification applies to these additional items.

(vii) Date Report Delivered to Congress: October 30, 2019

[FR Doc. 2019-27652 Filed 12-20-19; 8:45 am]

BILLING CODE 5001-06-P